DEPARTMENT OF AGRICULTURE

Rural Housing Service

Discontinuation of the Notice of Availability of Funding; Multi-Family Housing, Single Family Housing

AGENCY: Rural Housing Service, USDA.

ACTION: Notice; discontinuance of annual publication.

SUMMARY: This Notice is to inform the public that the U.S. Department of Agriculture, Rural Development's Rural Housing Service, hereinafter referred to as Housing and Community Facilities Programs (HCFP) is discontinuing its annual publication in the Federal Register the combined notice of funds availability (NOFA) for some of its existing and continuing Multi-Family and Single-Family Housing programs for which it receives annual appropriations. For Fiscal Year 2010 and thereafter, it will provide funding availability information to the public through its Web site, http://www.rurdev.usda.gov.

DATES: March 4, 2010.

FOR FURTHER INFORMATION CONTACT: For information and application assistance contact Henry Searcy, Jr., Finance and Loan Analyst, Multi-Family Housing Programs, telephone 202-720-1753 and Myron Wooden, Loan Specialist, Single Family Housing Programs, telephone 202-720-4780 as well as the appropriate state office by visiting the Web site http://offices.usda.gov. Interested parties may also contact offices which can be found in local telephone directory blue pages under “Rural Development.”

SUPPLEMENTARY INFORMATION: HCFP provides homeownership opportunities to rural Americans, as well as programs for home renovation and repair. HCFP also makes financial assistance available to elderly, disabled, and low-income rural residents of multi-unit housing structures to ensure that they are able to make rental payments. Individual NOFA's will continue to be published for some of its existing and continuing programs. It should be noted that NOFA's may be published for new or demonstration programs as needed.

Non-Discrimination Statement

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination write to USDA, Director, Office of Civil Rights, 1400 Independence Avenue, SW., Washington, DC 20250-9410 or call (800) 795-3272 (voice) or (202) 720-6382 (TDD). USDA is an equal opportunity provider, employer, and lender.

Dated: January 28, 2010
Tammye Treviño,
Administrator, Rural Housing Service.

[FR Doc. 2010-4498 Filed 3-3-10; 8:45 am]

BILLING CODE 3410-XV-P